INTERNATIONAL TRADE COMMISSION

[Investigation No. 337-TA-735]

In the Matter of Certain Flash Memory Chips And Products Containing Same; Notice of Commission Determination Not To Review an Initial Determination Terminating The Investigation in Its Entirety on The Basis of a Settlement Agreement; Termination of Investigation

AGENCY: U.S. International Trade Commission.

ACTION: Notice.

SUMMARY: Notice is hereby given that the U.S. International Trade Commission has determined not to review the presiding administrative law judge's (“ALJ”) initial determination (“ID”) (Order No. 42) granting complainant's unopposed motion to terminate in its entirety Inv. No. 337-TA-735, Certain Flash Memory Chips and Products Containing Same on the basis of a settlement agreement. The investigation is terminated.

FOR FURTHER INFORMATION CONTACT: Megan M. Valentine, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 13, 2010, based on a complaint filed by Spansion LLC of Sunnyvale, California (“Spansion”). 75 FR. 55604-5 (Sept 13, 2010). The complaint alleges violations of Section 337 of the Tariff Act of 1930, as amended, 19 U.S.C. 1337, in the importation into the United States, the sale for importation, and the sale within the United States after importation of certain flash memory chips and products containing same by reason of infringement of certain claims of U.S. Patent Nos. 7,018,922; 6,900,124 (“the `124 patent”); 6,459,625; and 6,369,416 (“the `416 patent”). The complaint further alleges the existence of a domestic industry. The Commission's notice of investigation named numerous respondents, including Samsung Electronics Co., Ltd. of Seoul, South Korea (“Samsung”); Samsung Electronics America, Inc. of Ridgefield Park, New Jersey, Samsung International, Inc. of San Diego, California, Samsung Semiconductor, Inc. of San Jose, California, and Samsung Telecommunications America, LLC of Richardson, Texas (collectively “Samsung subsidiaries”). On April 27, 2011, the Commission determined not to review an ID terminating the investigation as to claims 6-10 of the `124 patent. On June 13, 2011, the Commission determined not to review an ID terminating the investigation as to claim 4 of the `416 patent.

On June 16, 2011, Spansion filed an unopposed motion to terminate the investigation in its entirety on the basis of a settlement agreement between Spansion and Samsung and the Samsung subsidiaries. On June 17, 2011, the Commission Investigative attorney filed a response in support of the motion.

On June 20, 2011, the ALJ issued the subject ID, granting, pursuant to Commission Rule 210.21(b) (19 CFR 210.21(b)), Spansion's motion to terminate the investigation in its entirety. No petitions for review were filed.

The Commission has determined not to review the ID.

The authority for the Commission's determination is contained in Section 337 of the Tariff Act of 1930, as amended (19 U.S.C. 1337), and in section 210.42 of the Commission's Rules of Practice and Procedure (19 CFR 210.42).

By order of the Commission.
Issued: July 12, 2011.
James R. Holbein,
Secretary to the Commission.

[FR Doc. 2011-17825 Filed 7-14-11; 8:45 am]

BILLING CODE 7020-02-P